DEPARTMENT OF COMMERCE

Census Bureau

Proposed Information Collection; Comment Request; Annual Wholesale Trade Survey

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 19, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to John Miller, U.S. Census Bureau, Room 8K081, Washington, DC 20233-6500, (301) 763-2758.

SUPPLEMENTARY INFORMATION:

I. Abstract

The Annual Wholesale Trade Survey (AWTS) covers companies with employment that are primarily engaged in merchant wholesale trade in the United States, including wholesalers that take title of the goods they sell such as jobbers, industrial distributors, exporters, importers, and manufacturers' sales branches and offices. Additionally, the AWTS includes companies that do not take title of the goods they sell such as agents, merchandise or commodity brokers, commission merchants, and electronic business-to-business markets. The Bureau of Economic Analysis uses this information to improve the inventory valuation adjustments applied to estimates of the Gross Domestic Product, and considers these data vital inputs to the National Income and Product accounts and annual input-output tables.

The estimates produced from the AWTS are based on a probability sample and are published on the North American Industry Classification System basis. The sample design consists of small, medium, and large businesses requested to report sales on one of six questionnaires (the three classifications that follow are broken into separate questionnaires for company or single establishment reporters). Merchant wholesale establishments, excluding manufacturers' sales branches and offices, are requested to provide sales, e-commerce, inventories, method of inventory valuation, inventories held outside the United States, purchases, and operating expenses. Manufacturers' sales branches and offices are requested to provide sales, e-commerce, inventories, method of inventory valuation, inventories held outside the United States, and operating expenses. The agents, merchandise or commodity brokers, commission merchants, and electronic business-to-business markets are requested to provide commissions, sales on their own account, e-commerce, and operating expenses. The sample, consisting of approximately 8,900 businesses, is drawn from the Business Register, which contains all Employer Identification Numbers (EINs) and listed establishment locations. The sample is updated quarterly to reflect employer “births” and “deaths”; adding new employer businesses identified in the Business and Professional Classification Survey and deleting firms and EINs when it is determined they are no longer active.

Data from the AWTS are published at the United States summary level for selected wholesale industries approximately fourteen months after the end of the collection year.

II. Method of Collection

The information will be collected by mail, Internet, fax, and telephone.

III. Data

OMB Control Number: 0607-0195.

Form Number: SA-42, SA-42A, SA-42(MSBO), SA-42A(MSBO), SA-42(AGBR), SA-42A(AGBR).

Type of Review: Regular submission.

Affected Public: Business or other for-profit organizations.

Estimated Number of Respondents: 8,887.

Estimated Time per Response: 31 minutes.

Estimated Total Annual Burden Hours: 4,592.

Estimated Total Annual Cost: $0.

Respondent's Obligation: Mandatory.

Legal Authority: Title 13, United States Code, sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 12, 2008.
Gwellnar Banks,
Management Analyst, Office of the Chief Information Officer.

[FR Doc. E8-5325 Filed 3-17-08; 8:45 am]

BILLING CODE 3510-07-P